DEPARTMENT OF TRANSPORTATION

Pipeline and Hazardous Materials Safety Administration (PHMSA)

[Docket No. PHMSA-04-19854]

Pipeline Safety: Meetings on Assuring Distribution Pipeline Integrity

AGENCY: Office of Pipeline Safety, Pipeline and Hazardous Materials Administration, DOT.

ACTION: Notice of meetings.

SUMMARY: The Office of Pipeline Safety (OPS) plans to conduct several work group meetings in 2005 to evaluate ways to enhance integrity of gas distribution pipeline systems. The work groups include representatives of OPS, state pipeline safety regulators, the gas distribution industry, the Gas Pipeline Technology Committee, the Fire Marshal's Association, and the public. The next meeting will be held March 29-31, 2005, in Dallas, Texas.

ADDRESSES: The March 29-31 meeting will be held at Hilton Suites Dallas North, 13402 Noel Road, Dallas, Texas 75240. The phone number for Hilton reservations is (972) 503-8701. The particular meeting rooms will be posted by the hotel each day.

FOR FURTHER INFORMATION CONTACT: Mike Israni, OPS, (202) 366-4571; mike.israni@dot.gov.

SUPPLEMENTARY INFORMATION: OPS has implemented regulations over the last five years to address integrity management of hazardous liquid and gas transmission pipelines. OPS has now begun an effort to consider whether requirements should be imposed to enhance the integrity of gas distribution pipeline systems and, if so, how those requirements should be structured. OPS is working with a work group consisting of representatives of state pipeline safety regulators, the gas distribution industry, the Gas Pipeline Technology Committee, the Fire Marshal's Association, and the public. Members of this group plan to meet periodically in 2005 to evaluate various topics regarding the need for and nature of potential distribution integrity management requirements.

Executive represents of the study group met in Dulles, VA on March 16 and 17, 2005, to begin this effort. That group concluded that further investigation of potential approaches to assuring distribution integrity is needed. The executive group further concluded that the most useful approach is likely to include a combination of a high-level, risk-based federal regulation with implementation guidance included in a consensus standard or a guidance document. States, which are principally responsible for regulating distribution system safety, could impose additional requirements beyond the federal regulation and could adopt all or portions of the guidance. The executive group also concluded that a program of public education could be important to reducing the frequency of damage caused by excavations near distribution pipelines and that research and development should be conducted to identify improved means of assessing the integrity of distribution pipelines.

The continued evaluation of the potential need for distribution integrity management requirements and/or guidance will begin with meetings to be held at Hilton Suites Dallas North, 13402 Noel Road Dallas, Texas 75240, on March 29-31, 2005. Meetings on March 29 and 30 will be held from 8:30 a.m. to 4:30 p.m., and March 31 from 8:30 a.m. to 11 a.m. The participants will be formed into four study groups to evaluate strategic options, risk control practices, protection against outside force damage, and data issues related to understanding distribution integrity threats. The agenda for this meeting will include:

Joint Meeting

Introduction & Planned Report to Congress.

Mission, Action Plan and Options.

Group Structure & Responsibilities.

Charge to Sub Groups.

Steering Committee Decisions and Direction.

Industry Views on Plan, Options & Team Responsibilities.

Individual Study Groups

Each sub group will discuss what it needs to do to accomplish its mission. Each will:

• Identify specific tasks that need to be accomplished.

• Identify inputs needed from other sub groups or other sources.

• Identify support needs to accomplish needed tasks.

• Develop a draft schedule for accomplishing its mission.

The sub groups will report their findings in a joint session before the meeting is adjourned.

OPS expects that this effort will involve a series of meetings by each sub group, and the Steering Committee. The date and time of future meetings will be set to suit the schedules of the participants. OPS will announce the time and place of future meetings on the Web site (http://ops.dot.gov). OPS will also post on that web site minutes of meetings, copies of nonproprietary documents considered during the meetings, and work group products.

Interested persons may attend these meetings as observers. Observers will be given an opportunity to provide comments at the end of day.

Authority: 49 U.S.C. 60102, 60115.

Florence L. Hamn,
Director, Office of Regulations, Office of Pipeline Safety.

[FR Doc. 05-6067 Filed 3-28-05; 8:45 am]

BILLING CODE 4910-60-M